DEPARTMENT OF JUSTICE

Office of Justice Programs

[OJP (OJJDP) Docket No. 1755]

Notice of Charter Renewal of the Federal Advisory Committee on Juvenile Justice

AGENCY: Coordinating Council on Juvenile Justice and Delinquency Prevention, Justice.

ACTION: Notice of Charter Renewal.

SUMMARY: Notice that the charter of the Federal Advisory Committee on Juvenile Justice has been renewed.

FOR FURTHER INFORMATION CONTACT: Visit the website for the Federal Advisory Committee on Juvenile Justice at www.facjj.ojp.gov or contact Jeff Slowikowski, Designated Federal Official (DFO), Office of Juvenile Justice and Delinquency Prevention, by telephone at (202) 616-3646 (not a toll-free number) or via email: jeff.slowikowski@usdoj.gov.

SUPPLEMENTARY INFORMATION: This Federal Register Notice notifies the public that the Charter of the Federal Advisory Committee on Juvenile Justice has been renewed in accordance with the Federal Advisory Committee Act, Section 14(a)(1). The renewal Charter was signed by Acting U.S. Attorney Matt Whitaker on January 3, 2019. One can obtain a copy of the renewal Charter by accessing the Federal Advisory Committee on Juvenile Justice's website at www.facjj.ojp.gov.

Jeffrey Slowikowski,
Senior Advisor, Office of Juvenile Justice and Delinquency Prevention, Designated Federal Official, Federal Advisory Committee on Juvenile Justice.

[FR Doc. 2019-05193 Filed 3-19-19; 8:45 am]

BILLING CODE 4410-18-P